DEPARTMENT OF HEALTH AND HUMAN SERVICES

National Institutes of Health

Proposed Collection; 60-Day Comment Request: Hazardous Waste Worker Training Grantee Data Collection—42 CFR part 65 (NIEHS)

AGENCY: National Institutes of Health, HHS.

ACTION: Notice.

SUMMARY: In compliance with the requirement of the Paperwork Reduction Act of 1995, to provide opportunity for public comment on proposed data collection projects, the National Institute of Environmental Health Sciences (NIEHS), will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Joseph T. Hughes, Jr., Director, Worker Training Program (WTP), Division of Extramural Research and Training (DERT), NIEHS, P.O. Box 12233 MD: K3-14, Research Triangle Park, NC 27709 or call non-toll-free number (984) 287-3271 or Email your request, including your address to: hughes3@niehs.nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: Hazardous Waste Worker Training Grantee Data Collection—42 CFR part 65, 0925-0348, Expiration Date 03/31/2019 REINSTATEMENT WITH CHANGE, National Institute of Environmental Health Sciences (NIEHS), National Institutes of Health (NIH).

Need and Use of Information Collection: This request for OMB review and approval of the information collection is required by regulation 42 CFR part 65(a)(6). The National Institute of Environmental Health Sciences (NIEHS) was given major responsibility for initiating a worker safety and health training program under Section 126 of the Superfund Amendments and Reauthorization Act of 1986 (SARA) for hazardous waste workers and emergency responders.

A network of non-profit organizations that are committed to protecting workers and their communities by delivering high-quality, peer-reviewed safety and health curricula to target populations of hazardous waste workers and emergency responders has been developed. In thirty-one years (FY 1987-2018), the NIEHS WTP has successfully supported 20 primary grantees that have trained more than 4.1 million workers across the country and presented over 245,830 classroom and hands-on training courses, which have accounted for over 50 million contact hours of actual training. Generally, the grant will initially be for one year, and subsequent continuation awards are also for one year at a time. Grantees must submit a separate application to have the support continued for each subsequent year. Grantees are to provide information in accordance with S65.4(a), (b), (c) and 65.6(a) on the nature, duration, and purpose of the training, selection criteria for trainees' qualifications and competency of the project director and staff, cooperative agreements in the case of joint applications, the adequacy of training plans and resources, including budget and curriculum, and response to meeting training criteria in OSHA's Hazardous Waste Operations and Emergency Response Regulations (29 CFR 1910.120). As a cooperative agreement, there are additional requirements for the progress report section of the application. Grantees are to upload their information into the WTP Grantee Data Management System. The information collected is used by the Director through officers, employees, experts, and consultants to evaluate applications based on technical merit to determine whether to make awards and whether appropriate training is being conducted to support continuation of the grant into subsequent years. The annualized cost to respondent's time is estimated at: $19,867.86. There are no Capital Costs, Operating Costs and/or Maintenance Costs to report.

OMB approval is requested for 3 years. There are no costs to respondents other than their time. The total estimated annualized burden hours are 616.

Estimated Annualized Burden Hours
Form name | Type of respondent | Number of respondents | Number of responses per respondent | Average burden per response (in hours) | Total annual burden hour
Information Collection Questionnaire (Data Management System) | Grantee | 22 | 2 | 14 | 616
Total |  | 22 | 2 |  | 616

Dated: March 7, 2019.
Jane M. Lambert,
Project Clearance Liaison, NIEHS, NIH.

[FR Doc. 2019-04472 Filed 3-11-19; 8:45 am]

BILLING CODE 4140-01-P